DEPARTMENT OF JUSTICE

Notice of Lodging of Consent Decree Under the Clean Water Act

Notice is hereby given that on January 12, 2009, a proposed Consent Decree (the “Consent Decree”) in United States v. Shell Chemical Yabucoa, Inc., Civil Action No. 3:09-cv-1019 was lodged with the United States District Court for the District of Puerto Rico.

In a complaint, filed simultaneously with the Decree, the United States alleges that Shell Chemical Yabucoa, Inc. (“Shell”) violated the Clean Water Act, 33 U.S.C. 1251 et seq. (the “Act”) at its facility in Yabucoa, Puerto Rico (“Facility”) by discharging pollutants in excess of effluent limitations contained in its National Pollutant Discharge Elimination System (“NPDES”) Permit No. PR0000400, by discharging effluent from unpermitted discharge points as a result of two pipeline ruptures, by discharging unauthorized pollutants from a permitted discharge point, by failing to report violations, and by failing to provide adequate operation and maintenance at the Facility as required by NPDES Permit No. PR0000400.

The Consent Decree requires Shell to implement injunctive relief to bring the Facility into compliance with the Act, including to install and operate a rain gauge at the Facility, to collect, measure, and maintain records of the rainfall received at the Facility; to conduct maintenance of the Facility's flood control pond to minimize discharges of storm water from the Facility; and to conduct several studies and implement compliance measures to reduce the concentration of pollutants contained in the Facility's storm water discharges. The Facility currently is not conducting any petrochemical production operations, but if the Facility initiates production operations at any time before the Consent Decree terminates, which is estimated to be in approximately 3 years, Shell must design, construct and operate a storm water storage facility that provides for the temporary storage of at least 1.34 million gallons of storm water. The Consent Decree also requires Shell to pay a $1,025,000 civil penalty to the United States.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, United States Department of Justice, Washington, DC 20044-7611, and should refer to United States v. Shell Chemical Yabucoa, Inc., D.J. Ref. 90-5-1-1-08400.

The Consent Decree may be examined at the Office of the United States Attorney, Torre Chardón, Room 1201, 350 Chardón Street, San Juan, Puerto Rico 00918, and at U.S. EPA Region 2, Office of Regional Counsel, 290 Broadway, New York, New York 10007-1866. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.00 (25 cents per page reproduction cost) payable to the U.S. Treasury or, if by e-mail or fax, forward a check in that amount to the Consent Decree Library at the stated address.

Ronald Gluck,
Assistant Chief, Environmental Enforcement Section, Environment and Natural Resources Division.

[FR Doc. E9-1155 Filed 1-21-09; 8:45 am]

BILLING CODE 4410-15-P